DEPARTMENT OF HEALTH AND HUMAN SERVICES

Substance Abuse and Mental Health Services Administration

Fiscal Year (FY) 2002 Funding Opportunities

AGENCY: Substance Abuse and Mental Health Services Administration, HHS.

ACTION: Notice of funding availability.

SUMMARY: The Substance Abuse and Mental Health Services Administration (SAMHSA) Center for Mental Health Services (CMHS) announces the availability of FY 2002 funds for grants for the following activity. This notice is not a complete description of the activity; potential applicants must obtain a copy of the Guidance for Applicants (GFA), including Part I, Competitive Renewal for the Grants to Support Consumer and Consumer Supporter Technical Assistance Centers, and Part II, General Policies and Procedures Applicable to all SAMHSA Applications for Discretionary Grants and Cooperative Agreements, before preparing and submitting an application.

Activity | Application deadline | Est. funds FY 2001 | Est. number of awards | Project period
Competitive Renewal for the Grants to Support Consumer and Consumer Supporter Technical Assistance Centers | May 21, 2002 | $1,820,000 | 5 | 1 year.

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: Knowledge Exchange Network, P.O. Box 42490, Washington, DC 20015, 800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA), Center for Mental Health Services (CMHS), announces the availability of fiscal year (FY) 2002 funds to supplement and extend the five existing Consumer and Consumer Supporter Technical Assistance Centers. The purpose of these technical assistance centers is to develop and implement activities that assist in the improvement of mental health service systems at the State and local levels. In addition, the technical assistance centers are responsible for providing technical assistance and support to the 24 grantees under the Statewide Consumer Network Grant Program.

The President's proposed fiscal year 2003 budget does not include funding for the Consumer and Consumer Supporter Technical Assistance Centers. In order to continue current activities while the applicant transitions to other funding sources, and to avoid any detrimental effects during the transition period, CMHS is issuing this GFA to continue funding of the existing centers for one additional year.

Eligibility: Because this GFA is to support a phaseout of this grant program, only the currently funded three consumer and two consumer supporter technical assistance centers may apply. These include the Consumer Organization and Networking Technical Assistance Center (CONTAC), located in Charleston, West Virginia; National Empowerment Center (NEC), located in Lawrence, Massachusetts; National Mental Health Consumers' Self-Help Clearinghouse, located in Philadelphia, Pennsylvania; National Consumer Supporter Technical Assistance Center at the National Mental Health Association (NMHA), located in Alexandria, Virginia; and National Consumer Supporter Technical Assistance Center at the National Alliance for the Mentally Ill (NAMI), located in Arlington, Virginia.

Availability of Funds: In FY 2002, approximately $1,820,000 will be available for all awards under this announcement and for the Alternatives Conference. Each of the five technical assistance centers may apply for the same amount (direct and indirect) as its third year award (September 2000). The actual level of awards will depend on the availability of appropriated funds and the applicant's budget justification.

Period of Support

The award may be requested for one year.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria may be included in the application guidance materials.

Catalog of Federal Domestic Assistance Number: 93.243.

Program Contact: For questions concerning program issues, contact: Risa S. Fox, 5600 Fishers Lane, Rockville, MD 20857, (301)443-3653, rfox@samhsa.gov.

For questions regarding grants management issues, contact: Steve Hudak, Division of Grants Management, Substance Abuse and Mental Health Services Administration, 5600 Fishers Lane 13-103, Rockville, MD 20857, (301) 443-9666, E-Mail: shudak@samhsa.gov.

Public Health System Reporting Requirements: The Public Health System Impact Statement (PHSIS) is intended to keep state and local health officials apprized of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2002 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: April 9, 2002.
Richard Kopanda,
Executive Officer, SAMHSA.

[FR Doc. 02-8972 Filed 4-11-02; 8:45 am]

BILLING CODE 4162-20-P